DEPARTMENT OF HEALTH AND HUMAN SERVICES

Administration for Children and Families

Notice of Public Comment on Tribal Consultation Session To Be Held on September 11, 2008, in Phoenix, AZ

AGENCY: Office of Head Start (OHS).

ACTION: Notice of Public Comment on Tribal Consultation Session to be held on September 11, 2008, in Phoenix, Arizona.

SUMMARY: Pursuant to the Improving Head Start for School Readiness Act of 2007, Public Law 110-134, notice is hereby given of a one-day Tribal Consultation Session to be held between the Department of Health and Human Services, Administration for Children and Families, Office of Head Start leadership and the leadership of Tribal governments operating Head Start (including Early Head Start) programs. The purpose of the Consultation Session is to discuss ways to better meet the needs of Indian, including Alaska Native, children and their families, taking into consideration funding allocations, distribution formulas, and other issues affecting the delivery of Head Start services in their geographic locations [42 U.S.C. 9835, Section 640(l)(4)].

Date & Location: The Consultation Session will be held on September 11, 2008, at the Hyatt Regency Phoenix in Phoenix, Arizona.

FOR FURTHER INFORMATION CONTACT: Renée Perthuis, Acting Regional Program Manager, American Indian/Alaska Native Program Branch, Office of Head Start, e-mail reneeaian@acf.hhs.gov or (202) 260-1721. Register to attend the Consultation Session online at www.hsnrc.org.

SUPPLEMENTARY INFORMATION: The Department of Health and Human Services would like to invite leaders of Tribal governments operating Head Start (including Early Head Start) programs to participate in a formal Consultation Session with OHS leadership. The Consultation Session will take place on Thursday, September 11, 2008, at the Hyatt Regency Phoenix in Phoenix, Arizona.

The purpose of the Consultation Session is to solicit input on ways to better meet the needs of Indian, including Alaska Native, children and their families, taking into consideration funding allocations, distribution formulas, and other issues affecting the delivery of Head Start services in their geographic locations. Specific topics will include policy, research, Head Start/Early Head Start conversion, program quality, and monitoring.

Tribal leaders and designated representatives interested in submitting written testimony or topics for the Consultation Session agenda should contact Renée Perthuis at reneeaian@acf.hhs.gov. The proposal agenda topics should include a brief description of the topic area along with the name and contact information of the suggested presenter.

The Consultation Session will be conducted with elected or appointed leaders of Tribal governments and their designated representatives [42 U.S.C. 9835, Section 640(l)(4)(A)]. Representatives from Tribal organizations and Native non-profit organizations are welcome to attend as observers. Those wishing to participate in the discussions must have a copy of a letter signed by an elected or appointed official or their designee, which authorizes them to serve as a representative of the Tribe. This should be submitted not less than three days in advance of the Consultation Session to Renée Perthuis at 202-205-9721 (fax).

A detailed report of the Consultation Session will be prepared and made available within 90 days of the consultation to all Tribal governments receiving funds for Head Start (including Early Head Start) programs.

Dated: July 29, 2008.
Patricia Brown,
Acting Director, Office of Head Start.

[FR Doc. E8-17774 Filed 8-1-08; 8:45 am]

BILLING CODE 4184-01-P